DEPARTMENT OF DEFENSE

Department of the Air Force

Notice of Federal Advisory Committee Meeting

AGENCY: U.S. Air Force Scientific Advisory Board, Department of the Air Force, Department of Defense.

ACTION: Notice of Federal Advisory Committee meeting.

SUMMARY: The Department of Defense (DoD) is publishing this notice to announce that the following Federal Advisory Committee meeting of the U.S. Air Force Scientific Advisory Board will take place.

DATES: Closed to the public. Thursday April 2, 2020 from 1:15 p.m. to 4:15 p.m. CST.

ADDRESSES: Auditorium of the Eglin Enlisted Hall, located at 1760 Memorial Trail, Eglin AFB, FL 32542.

FOR FURTHER INFORMATION CONTACT: Evan Buschmann, (240) 612-5503 (Voice), 703-693-5643 (Facsimile), evan.g.buschmann.civ@us.af.mil (Email). Mailing address is 1500 West Perimeter Road, Ste. #3300, Joint Base Andrews, MD 20762. Website: http://www.sab.af.mil/. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The purpose of this Air Force Scientific Advisory Board quarterly meeting is to conduct mid-term reviews of the Scientific Advisory Board's FY20 studies, offering board members the opportunity to hear directly from the Study Chairs on the progress they have made thus far and provide dedicated time to continue collaboration on research.

Agenda: 1315-1330 FY20 Study Remarks 1330-1415 Understanding and Avoiding Unintended Behaviors in Autonomous Systems (UBA)—Midterm Outbrief 1415-1500 Future Air Force Vanguard Selection and Management Processes (FVS)—Midterm Outbrief 1515-1600 Air Force Communications in the Future Operating Environment (CFE)—Midterm Outbrief 1600-1615 Closing Remarks. In accordance with section 10(d) of the Federal Advisory Committee Act, as amended, 5 U.S.C. Appendix and 41 CFR 102-3.155, the Administrative Assistant of the Air Force, in consultation with the Air Force General Counsel, has agreed that the public interest requires the United States Air Force Scientific Advisory Board meeting be closed to the public because it will involve discussions involving classified matters covered by 5 U.S.C. 552b(c)(1).

Written Statements: Any member of the public wishing to provide input to the United States Air Force Scientific Advisory Board should submit a written statement in accordance with 41 CFR 102-3.140(c) and section 10(a)(3) of the Federal Advisory Committee Act and the procedures described in this paragraph. Written statements can be submitted to the Designated Federal Officer at the address detailed above at any time. Statements being submitted in response to the agenda announced in this notice must be received by the Designated Federal Officer at the address listed below at least five calendar days prior to the meeting date. Written statements received after this date may not be provided to or considered by the United States Air Force Scientific Advisory Board until the next scheduled meeting. The Designated Federal Officer will review all timely submissions with the United States Air Force Scientific Advisory Board Chairperson and ensure they are provided to members of the United States Air Force Scientific Advisory Board before the meeting that is the subject of this notice.

Adriane Paris,
Acting Air Force Federal Register Liaison Officer.

[FR Doc. 2020-04714 Filed 3-6-20; 8:45 am]

BILLING CODE 5001-10-P